DEPARTMENT OF TRANSPORTATION

Federal Highway Administration

Environmental Impact Statement/Section 4(F) Evaluation: Prince George's County, Maryland

AGENCY: Federal Highway Administration (FHWA), DOT.

ACTION: Notice of intent.

SUMMARY: The FHWA is issuing this notice to advise the public that an Environmental Impact Statement (EIS)/Section 4(f) Evaluation will be prepared for a proposed transportation project in Prince George's County, Maryland.

FOR FURTHER INFORMATION CONTACT: Ms. Caryn Brookman, Environmental Protection Specialist, Federal Highway Administration, The Rotunda—Suite 220, 711 West 40th Street, Baltimore, Maryland 21211, Telephone: (410) 962-4342, Extension 130.

SUPPLEMENTARY INFORMATION: The FHWA, in cooperation with the Maryland State Highway Administration, will prepare an EIS/Section 4(f) Evaluation on the proposed alternates to improve US 1 and MD 201 in Prince George's County, Maryland. The Environmental Protection Agency and the U.S. Army Corps of Engineers have been invited to participate as cooperating agencies.

Continued growth in population and development is creating traffic congestion along existing US 1 and MD 201. The local roadway network will soon reach capacity and will be unable to accommodate future travel demand. Improvements within the corridor will address safety problems and accommodate existing and projected travel demand.

The alternatives under consideration include (1) taking no action; (2) using multi-modal strategies and intersection improvements without the addition of through travel lanes or new roadways; (3) widening US 1 from Sunnyside Avenue to MD 198 and improving intersections on US 1 and MD 201; (4) widening MD 201 from Sunnyside Avenue to Odell Road, providing a new roadway on a new alignment from MD 201 at Odell Road to Ritz Way/Virginia Manor Road, realigning and widening Virginia Manor Road and Van Dusen Road, and improving major intersections on MD 201; (5) widening MD 201 from Sunnyside Avenue to Muirkirk Road, extending MD 201 from Muirkirk Road to Contee Road, and improving major intersections on MD 201 and US 1; (6) widening US 1 from Sunnyside Avenue to MD 198, widening MD 201 from Sunnyside Avenue to Muirkirk Road, extending MD 201 from Muirkirk Road to Contee Road, and widening and improving cross streets (Sunnyside Avenue, Powder Mill Road, Muirkirk Road, and Contee Road) from MD 201 to US 1; and (7) widening US 1 from Sunnyside Avenue to MD 198, widening MD 201 from Sunnyside Avenue to Odell Road, providing a new roadway from MD 201 to Ritz Way/Virginia Manor Road, realigning and widening Virginia Manor Road and Van Dusen Road from Muirkirk to MD 198, and extending MD 201 from Muirkirk Road to Contee Road.

Letters describing the proposed action and soliciting comments will be sent to appropriate Federal, State and local agencies, private organizations, and to citizens who have previously expressed or are known to have an interest in this project. A public hearing is tentatively scheduled for Fall of 2002. Public notice will be given of the time and place of this hearing.

The draft EIS/Section 4(f) Evaluation will be available for public and agency review and comment prior to the public hearing. Scoping meetings for the public, agencies, and for the Metropolitan Washington Council of Governments have been conducted throughout the course of the project.

To ensure that the full range of issues related to this proposed action are addressed and all significant issues identified, comments and suggestions are invited from all interested parties.

Comments or questions concerning these proposed actions and the EIS/Section 4(f) Evaluation should be directed to the FHWA at the address provided above. (Catalog of Federal Domestic Assistance Program Number 20.205, Highway Research, Planning and Construction. The regulation implementing Executive Order 12372 regarding intergovernmental consultation of Federal Programs and activities apply to this program).

Daniel W. Johnson,
Environmental Program Manager, Baltimore, Maryland.

[FR Doc. 02-4230 Filed 2-21-02; 8:45 am]

BILLING CODE 4910-22-M